OFFICE OF PERSONNEL MANAGEMENT

Excepted Service

AGENCY: Office of Personnel Management.

ACTION: Notice.

SUMMARY: This gives notice of OPM decisions, granting authority to make appointments under Schedule C in the excepted service as required by 5 CFR 6.1 and 213.103.

FOR FURTHER INFORMATION CONTACT: Pam Shivery, Director, Washington Service Center, Employment Service (202) 606-1015.

SUPPLEMENTARY INFORMATION: Appearing in the listing below are the individual authorities established under Schedule C between between November 1, 2002 and November 30, 2002. Future notices will be published on the fourth Tuesday of each month, or as soon as possible thereafter. A consolidated listing of all authorities as of June 30 is published each year.

Schedule C

Broadcasting Board of Governors

Special Assistant to the Chairman. Effective November 21, 2002.

Special Assistant to the Chairman. Effective November 22, 2002.

Commodity Futures Trading Commission

Administrative Assistant to a Commissioner. Effective November 12, 2002.

Administrative Assistant to the Commissioner. Effective November 21, 2002.

Consumer Product Safety Commission

Executive Assistant to the Chairman. Effective November 14, 2002.

General Counsel to the Chairman. Effective November 21, 2002.

Department of Agriculture

Confidential Assistant to the Deputy Administrator, Office of Community Development. Effective November 6, 2002.

Director of Public Affairs to the Administrator. Effective November 14, 2002.

Special Assistant to the Executive Assistant for Homeland Security. Effective November 15, 2002.

Confidential Assistant to the Administrator, Risk Management Agency. Effective November 20, 2002.

Department of Commerce

Special Assistant to the Executive Assistant, International Trade Administration. Effective November 12, 2002.

Confidential Assistant to the Assistant Secretary for Economic Development. Effective November 27, 2002.

Department of Defense

Defense Fellow to the Special Assistant to the Secretary of Defense for White House Liaison. Effective November 1, 2002.

Defense Fellow to the Special Assistant to the Secretary of Defense for White House Liaison. Effective November 7, 2002.

Chief of Staff to the Inspector General. Effective November 7, 2002.

Staff Assistant to the Deputy Assistant Secretary of Defense (Forces Policy). Effective November 13, 2002.

Department of Education

Confidential Assistant to the Special Assistant. Effective November 7, 2002.

Special Assistant to the Deputy Assistant Secretary for Regional Services. Effective November 19, 2002.

Special Assistant to the Director, White House Initiative on Hispanic Education. Effective November 19, 2002.

Deputy Secretary's Regional Representative to the Assistant Secretary for Intergovernmental and Interagency Affairs. Effective November 25, 2002.

Department of Energy

Special Assistant to the Deputy Assistant Secretary for National Security. Effective November 5, 2002.

Daily Scheduler to the Director, Office of Scheduling and Advance. Effective November 26, 2002.

Department of Housing and Urban Development

Advance Coordinator to the Director of Executive Scheduling. Effective November 15, 2002.

Special Assistant to the Assistant Secretary for Congressional and intergovernmental Relations. Effective November 18, 2002.

Congressional Relations Officer to the Assistant Secretary for Congressional and Intergovernmental Relations. Effective November 18, 2002.

Staff Assistant to the Assistant Secretary for Congressional and Intergovernmental Relations. Effective November 18, 2002.

Assistant for Congressional Relations to the Deputy Assistant Secretary for Congressional Relations. Effective November 26, 2002.

Department of Justice

Special Assistant to the Director, Bureau of Justice Assistance, Office of Justice Programs. Effective November 7, 2002.

Public Affairs Specialist to the United States Attorney, San Antonio, TX. Effective November 20, 2002.

Department of Labor

Special Assistant to the Director of Scheduling and Advance. Effective November 21, 2002.

Attorney-Advisor to the Solicitor of Labor. Effective November 21, 2002.

Special Assistant to the Assistant Secretary for Administration and Management. Effective November 25, 2002.

Department of State

Program Support Assistant to the Foreign Affairs Officer (Visits). Effective November 15, 2002.

Staff Assistant to the Deputy Assistant Secretary for Equal Employment. Effective November 26, 2002.

Department of Veterans Affairs

Special Assistant to the Assistant Secretary for Congressional and Legislative Affairs. Effective November 14, 2002.

Environmental Protection Agency

Deputy Associate Administrator to the Associate Administrator, Office of Congressional Affairs. Effective November 19, 2002.

General Services Administration

Special Assistant to the Deputy Associate Administrator for Government Policy. Effective November 18, 2002.

Office of Management and Budget

Senior Advisor (Assistant General Counsel) to the General Counsel. Effective November 12, 2002.

Confidential Assistant to the Controller. Effective November 19, 2002.

Small Business Administration

Special Assistant to the Associate Deputy Administrator of Entrepreneurial Development. Effective November 13, 2002.

Senior Advisor for Congressional Affairs (House) to the Assistant Administrator for Congressional and Legislative Affairs. Effective November 14, 2002.

United States Tax Court

Secretary (Confidential Assistant) to a Judge. Effective November 4, 2002.

(Authority: 5 U.S.C. 3301 and 3302; E.O. 10577, 3 CFR 1954-1958 Comp., P.218).

Office of Personnel Management.
Kay Coles James,
Director.

[FR Doc. 03-111 Filed 1-3-03; 8:45 am]

BILLING CODE 6325-38-P